INTERNATIONAL TRADE COMMISSION

[Investigation No. 337-TA-678]

In the Matter of: Certain Energy Drink Products; Notice of Commission Decision Not To Review an Initial Determination Granting Motion To Amend the Complaint and the Notice of Investigation To Add Six Additional Respondents

AGENCY: U.S. International Trade Commission.

ACTION: Notice; Corrected.

SUMMARY: Notice is hereby given that the U.S. International Trade Commission has determined not to review an initial determination (“ID”) (Order No. 11) issued by the presiding administrative law judge (“ALJ”) in the above-captioned investigation granting a motion filed by complainants Red Bull GmbH and Red Bull North America, Inc. (collectively, “Red Bull”) to amend the amend the complaint and notice of investigation to add six new respondents.

FOR FURTHER INFORMATION CONTACT: Paul M. Bartkowski, Office of the General Counsel, U.S. International Trade Commission, 500 E Street, SW., Washington, DC 20436, telephone (202) 708-5432. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on June 17, 2009, based on a complaint filed by Red Bull GmbH and Red Bull North America, Inc. (“Red Bull”). 74 FR 28725 (June 17, 2009). The complaint as amended alleged violations of section 337 of the Tariff Act of 1930 (19 U.S.C. 1337) in the importation into the United States, the sale for importation, and the sale within the United States after importation of certain energy drink products by reason of infringement of U.S. Trademark Registration Nos. 3,092,197; 2,946,045; 2,994,429; and 3,479,607 and U.S. Copyright Registration No. VA0001410959. The complaint initially named six respondents: Chicago Import, Inc.; Lamont Dist., Inc. a/k/a Lamont Distributors Inc.; India Imports, Inc., a/k/a International Wholesale Club; Washington Food and Supply of DC, Inc., a/k/a Washington Cash & Carry; Vending Plus, Inc.; and Baltimore Beverage Co.

On September 8, 2009, the ALJ issued the subject ID, granting Red Bull's motion to amend the complaint and notice of investigation to add six new respondents: Posh Nosh Imports; Greenwich, Inc.; Advantage Food Distributors, Ltd.; Wheeler Trading, Inc.; Avalon International General Trading, LLC; and Central Supply, Inc. No petitions for review were filed.

The Commission has determined not to review the subject ID.

The authority for the Commission's determination is contained in section 337 of the Tariff Act of 1930, as amended (19 U.S.C. 1337), and in sections 210.42 of the Commission's Rules of Practice and Procedure (19 CFR 210.42).

Dated: Issued: September 30, 2009.
By order of the Commission.
Marilyn R. Abbott,
Secretary to the Commission.

[FR Doc. E9-24309 Filed 10-8-09; 8:45 am]

BILLING CODE 7020-02-P